DEPARTMENT OF HOMELAND SECURITY

Federal Emergency Management Agency

44 CFR Part 67

[Docket No. FEMA-B-7732]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Mobile County, Alabama, and Incorporated Areas
Branch B | Approximately 2,900 feet downstream of Golfway Street | None | +87 | City of Mobile, City of Prichard.
| Approximately 3,300 feet downstream of Golfway Street | None | +172
Branch C | Approximately 50 feet downsteam of U.S. 45 | None | +42 | City of Prichard.
| Approximately 1,200 feet upstream of West Meyers Road | None | +91
Branch D | Approximately 100 feet downstream of West Meyers Road | None | +56 | City of Prichard.
| Approximately 500 feet upstream Cochran Road | None | +117
Branch D Tributary | Confluence with Branch D | None | +88 | City of Prichard.
| Approximately 1,100 feet upstream of Confluence with Branch D | None | +127
Branch E | Approximately 2,100 feet above confluence with Eightmile Creek | None | +18 | City of Prichard.
| Approximately 1,800 feet upstream of Aldock Road | None | +35
Branch F | Approximately 1,100 feet above confluence with Eightmile Creek | None | +15 | City of Prichard.
| Approximately 3,800 feet above confluence with Eightmile Creek | None | +32
Branch G | Approximately 800 feet downstream of West Main Street | None | +28 | City of Prichard.
| Approximately 250 feet upstream of Wolf Ridge Road | None | +44
Gum Tree Branch | Approximately 100 feet upstream of Turner Road | None | +25 | City of Prichard.
| Approximately 600 feet upstream of Caledonia Street | None | +29
Miller Creek | Approximately 2,600 feet upstream of Snow Road | None | +153 | Unincorporated Areas of Mobile County.
| Aproximately 12,420 feet upstream of Snow Road | None | +183
Unnamed Branch | Approximately 100 feet downstream of Bear Fork Road | None | +88 | City of Prichard.
| Approximately 1,100 feet upstream of Forrest Park Road | None | +149
* National Geodetic Vertical Datum.
# Depth in feet above ground.
+ North American Vertical Datum.
ADDRESSES
City of Mobile
Maps are available for inspection at 205 Government Street, 3rd Floor, Mobile, AL 36602.
Send comments to The Honorable Samuel L. Jones, Mayor, City of Mobile, P.O. Box 1827, Mobile, AL 36633.
City of Prichard
Maps are available for inspection at 216 East Prichard Avenue, Mobile, AL 36610.
Send comments to The Honorable Ron Davis, Mayor, City of Prichard, P.O. Box 10427, Prichard, AL 36610.
Unincorporated Areas of Mobile County
Maps are available for inspection at 1110 Schillinger Road, Suite 100, Mobile, AL 36608.
Send comments to The Honorable Stephen Nodine, Chairman, Mobile County, P.O. Box 1443, Mobile, AL 36633.

(Catalog of Federal Domestic Assistance No. 97.022, “Flood Insurance.”)

Dated: August 21, 2007.
David I. Maurstad,
Federal Insurance Administrator of the National Flood Insurance Program, Department of Homeland Security, Federal Emergency Management Agency.

[FR Doc. E7-17352 Filed 8-30-07; 8:45 am]

BILLING CODE 9110-12-P